DEPARTMENT OF COMMERCE

National Oceanic and Atmospheric Administration

RIN 0648-XA751

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene a public meeting.

DATES: The meeting will be held October 24-28, 2011.

ADDRESSES: The meeting will be held at the Doubletree Hotel, 300 Canal Street, New Orleans, LA 70130; telephone: (504) 581-1300.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Thursday, October 27, 2011

The Council meeting will begin at 11 a.m. with a Call to Order and Introductions. From 11:05 a.m.-11:15 a.m., the Council will review the agenda and approve the minutes. From 11:15 a.m.-11:25 a.m., the Council will approve the 2012 Committee Appointments. From 11:25 a.m.-11:40 a.m., the Council will receive a presentation titled “Fisheries 101”. From 11:40 a.m.-12 noon, the Council will review the Action Schedule. From 1:30 p.m.-3:30 p.m., the Council will receive public testimony on agenda items, Draft Reef Fish Amendment 34, Draft Reef Fish Amendment 36, and exempted fishing permits (EFPs), if any; the Council will also hold an open public comment period regarding any other fishery issues of concern. People wishing to speak before the Council should complete a public comment card prior to the comment period. From 3:30 p.m.-5:30 p.m., the Council will review and discuss the Reef Fish Committee Report.

Friday, October 28, 2011

From 8:30 a.m.-12 noon, the Council will review and discuss reports from the committee meetings as follows: Reef Fish, Law Enforcement, Administrative Policy, Data Collection, Spiny Lobster/Stone Crab, Sustainable Fisheries/Ecosystem, Red Drum, Advisory Panel Selection, Scientific & Statistical Committee Selection, Mackerel and Shrimp. Other Business items will follow from 12 p.m.-12:30 p.m. The Council will conclude its meeting at approximately 12:30 p.m.

Committees

Monday, October 24, 2011

1 p.m.-5 p.m.—Joint Law Enforcement Committee, Gulf Council's Law Enforcement Advisory Panel & Gulf States Law Enforcement Committee will meet and discuss Texas Oyster Regulations, Inter-jurisdictional Fisheries Program Activities, Gulf States Marine Fisheries Commission's Enforcement Publications, review the Gulf Council Action Schedule, receive Individual State Enforcement Report Highlights and discuss State Violation Search Methods, review Status of FMPs and Amendments, discuss Potential Weak Hook Regulations, discuss Crew Size Limits on Dual-Permitted Vessels, and review Joint Enforcement Agreement and other Future Funding.

5 p.m.-5:30 p.m.—The Administrative Policy Committee will discuss the Enforcement Violations Policy.

—Recess—

Tuesday, October 25, 2011

8:30 a.m.-12 noon and 1:30 p.m.-5 p.m.—Reef Fish Management Committee will meet to discuss the Summary of the October 2011 Scientific & Statistical Committee Meeting, review the Vermilion Snapper and Gray Triggerfish Update Assessments, discuss Amendment 28—Grouper Allocation, receive a presentation on NOAA's Catch Shares Policy, discuss Draft Amendment 34—Crew Size and Income Requirements, review and discuss Public Hearing Draft Amendment 35—Greater Amberjack Rebuilding, review Options Paper on Red Snapper Fall Season Regulatory Amendment, discuss an Amendment for Red Snapper Payback Provisions for Overages and Amendment 36—Restrict Red Snapper IFQ Transfer, receive a report of the Ad Hoc Headboat Advisory Panel meeting, discuss Amendment 37—Red Snapper IFQ 5-year Review, and review the Reef Fish Limited Access Privilege Program Advisory Panel Meeting Report.

—Recess—

Wednesday, October 26, 2011

8:30 a.m.-10:30 a.m.—The Data Collection Committee will receive a presentation on the Marine Recreational Information Program (MRIP), review the Charge for Ad Hoc Private Recreational Data Collection Advisory Panel, receive a presentation on the Mechanisms for Implementing Headboat Electronic Reporting, and discuss the status of Restoration Funding.

10:30 a.m.-11:30 a.m.—The Spiny Lobster/Stone Crab Management Committee will receive a summary of the meeting held with NOAA, Industry, and Sanctuary Staff, review of Public Hearing Draft of Joint Spiny Lobster Amendment 11, and select Public Hearing Locations.

11:30 a.m.-11:45 a.m.—The Red Drum Management Committee will discuss the Status of Red Drum.

1 p.m.-5:30 p.m.—Sustainable Fisheries/Ecosystem Committee will review and discuss the Ecosystem Scientific and Statistical committee report, discuss a Paper on Sector Separation, discuss a proposed Joint SAFMC/GMFMC Goliath Grouper Panel, and discuss an Ad Hoc Joint SAFMC/GMFMC Committee to consider a South Florida Fishery Management Plan.

—Recess—

Immediately following the Committee Recess will be the Informal Question & Answer Session on Gulf of Mexico Fishery Management Issues.

Thursday, October 27, 2011

8:30 a.m.-9 a.m.—Advisory Panel Selection Committee—Closed Session—The Advisory Panel Selection Committee/Full Council will meet and appoint an Ad Hoc Private Recreational Data Collection Advisory Panel.

9 a.m.-9:30 a.m.—The Scientific & Statistical Committee (SSC) Selection Committee will review the SSC Roles, Responsibilities and revised SOPPs Language.

9:30 a.m.-10 a.m.—The Mackerel Management Committee will discuss Mackerel Amendment 19—No Sale of Recreationally Caught Fish and Permit Revisions and discuss possible issues for inclusion in future amendments, e.g., Bag Limit Sales, Trip Limits, Transit, and Latent Gill Net Permits.

10 a.m.-11 a.m.—The Shrimp Management Committee will review and discuss the Shrimp Scientific & Statistical Committee Report, receive a presentation and discuss the Status of Shrimp Stocks and Alternative Stock Assessment Methods, and receive a preliminary report of the 2011 Shrimping Effort.

—Recess—

Although other non-emergency issues not on the agendas may come before the Council and Committees for discussion, in accordance with the Magnuson Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: October 3, 2011.
Tracey L. Thompson,
Acting Director, Office of Sustainable Fisheries, National Marine Fisheries Service.

[FR Doc. 2011-25840 Filed 10-5-11; 8:45 am]

BILLING CODE 3510-22-P